DEPARTMENT OF COMMERCE

National Oceanic and Atmospheric Administration

RIN 0648-XO39

Western Pacific Fishery Management Council; Public Meetings

AGENCY: National Marine Fisheries Service (NMFS), National Oceanic and Atmospheric Administration (NOAA), Commerce.

ACTION: Notice of public meetings.

SUMMARY: This notice advises the public that the Western Pacific Fishery Management Council (Council) will convene meetings of the Hawaii Archipelago Plan Team (PT), Advisory Panel (AP), and Regional Ecosystem Advisory Committee (REAC) in Honolulu, Hawaii.

DATES: The Hawaii Archipelago PT meeting will be held Tuesday-Wednesday, April 14-15, 2009, the Hawaii AP meeting will be held Thursday, April 16, 2009, and the Hawaii REAC meeting will be held Friday, April 17, 2009. For the specific dates, times, and agendas for the meetings see SUPPLEMENTARY INFORMATION.

ADDRESSES: The meetings of the Hawaii Archipelago PT, AP and REAC will be held at the Council Office, 1164 Bishop St. Suite 1400, Honolulu, Hawaii 96814.

FOR FURTHER INFORMATION CONTACT: Kitty M. Simonds, Executive Director; telephone: (808)522-8220.

SUPPLEMENTARY INFORMATION:

Schedule and Agenda for Hawaii Archipelagic Plan Team Meeting

9:00 a.m. — 4:00 p.m. Tuesday, April 14, 2009

1. Welcome and Introduction of Members

2. Approval of Draft Agenda

3. Update on Federal Fisheries Management Actions

a. Fishery Ecosystem Plan amendments on Annual Catch Limits (ACLs)/Allowable Catch Targets (ACTs)/Accountability Measures

b. Defining Small-scale traditional fishing

c. Discussion and recommendations

4. Ecosystem and Habitat

a. Habitat Assessment Improvement Plan

b. Updating EFH/HAPC information

i. FEP/FMP designations

ii. Defining/improving EFH/HAPC definitions, boundaries and information

c. Stimulus Funding for Habitat

5. Fishery Development

a. Identify Marine, Education and Training Priorities

b. Cooperative Research priorities

c. Marine Conservation Plan

d. Discussion and recommendations

6. Review of Annual Report Modules for Hawaii & Pacific Remote Island Areas

a. Coral Reef Ecosystem

b. Precious Coral

c. Crustaceans

d. Discussion and Recommendations

Hawaii Archipelagic Plan Team Meeting

9:00 a.m. — 4:00 p.m. Wednesday, April 15, 2009

e. Bottomfish

i. Main Hawaiian Island Module

ii. Northwestern Hawaiian Island Module

iii. Market/Economic Report

iv. Administrative report

8. Precious Corals Issues

a. State of Hawaii Black Coral Research

b. National Marine Fisheries Service Pacific Island Fisheries Science Center Gold Coral Research

c. Corallium (Pink Coral) Issues

d. Review of Current and Proposed Management Measures

9. Other Business

10. Public Comments

11. Discussion and Recommendation

Schedule and Agenda for the Hawaii Archipelago Advisory Panel Meeting

9:00 a.m. — 4:00 p.m. Thursday, April 16, 2009

1. Welcome and Introduction of Members

2. Introduction to the Council and Magnuson Stevens Act

3. Status Report on 2008 Advisory Panel Recommendations

4. Emerging Fishery Issues

5. Community Marine Management

a. Marine Education and Training Program

b. Aha Moku Community Consultation Process

c. Recreational Fishing Data Collection Options

d. Status of State of Hawaii Fishing Regulations Review

e. Report on State of Hawaii Protected Species Activities

f. Allowing Commercial Harvest of Invasive Sardines/Herrings

g. Cooperative Research — Report on Bottomfish Tagging Project

6. Upcoming 145th Council Meeting Actions

a. Hawaii Offshore Handline Permits and Limited Entry

b. Main Hawaiian Islands Bottomfish Stock Assessment Review

c. Annual Catch Limits for Non-Pelagic Species

d. Small-scale Traditional Fisheries

7. Other Business

8. Public Comment

9. Discussion and Action

Schedule and Agenda for the Hawaii Archipelagic Regional Ecosystem Advisory Committee Meeting

9:00 a.m. — 4:00 p.m. Friday, April 17, 2009

1. Welcome and Introduction of Members

2. Approval of Draft Agenda

3. Update on Federal Fisheries Management Actions

a. Hawaii Offshore Handline Permits and Limited Entry

b. FEP amendments on ACLs/ACTs/AMs

c. Defining Small-scale traditional fishing

d. Discussion and Recommendation

4. Community Marine Management Forum

a. Hawaii's Living Seascape: A Strategy For A Prosperous Future

b. Report on Aha Kiole Final Report and Legislation

c. Invasive Species

i. Hawaii Invasive Species Council Strategy 2008-2013

ii. Allowing Commercial Harvest of Invasive Sardines/Herrings

d. Discussion and Recommendation

5. Coastal Ecosystems

a. Marine Education and Training Program Priorities

b. Coastal America Program and Projects

c. Report on the State's Recreational Renaissance Plan

d. Marine Recreational Information Program Initiatives

e. Habitat Initiatives

i. Habitat Assessment Improvement Plan

ii. Refining Essential Fish Habitat Designations in Hawaii

iii. Military Activities to Remove Mangroves

6. Public Comments

7. Discussion and Recommendations

The order in which agenda items are addressed may change. Public comment periods will be provided throughout each agenda. The PT, AP and REAC will meet as late as necessary to complete scheduled business.

Special Accomodations

These meetings are physically accessible to people with disabilities. Requests for sign language interpretation or other auxiliary aids should be directed to Kitty M. Simonds, (808)522-8220 (voice) or (808)522-8226 (fax), at least 5 days prior to the meeting date.

Authority: 16 U.S.C. 1801 et seq.

Dated: March 23, 2009.
Tracey L. Thompson,
Acting Director, Office of Sustainable Fisheries, National Marine Fisheries Service.

[FR Doc. E9-6737 Filed 3-25-09; 8:45 am]

BILLING CODE 3510-22-S